FEDERAL COMMUNICATIONS COMMISSION

47 CFR Parts 73 and 76

[MB Docket Nos. 17-105 and 14-127, MM Docket No. 00-168; FCC 20-32; FRS 16600]

Modernization of Media Regulation Initiative; Expansion of Online Public File Obligations to Cable and Satellite TV Operators and Broadcast and Satellite Radio Licensees; Standardized and Enhanced Disclosure Requirements for Television Broadcast Licensee Public Interest Obligations

AGENCY: Federal Communications Commission.

ACTION: Final rule.

SUMMARY: In this document, the Commission makes non-substantive, editorial revisions to the Commission's rules to eliminate regulations that have become unnecessary because they no longer have any applicability. These relevant provisions are now without legal effect and therefore obsolete due to the completion of the transition from local hard copy public inspection files to online public inspection files.

DATES: This rule is effective April 16, 2020.

FOR FURTHER INFORMATION CONTACT: For additional information on this proceeding, contact Diana Sokolow, Diana.Sokolow@fcc.gov, of the Policy Division, Media Bureau, (202) 418-2120.

SUPPLEMENTARY INFORMATION: This is a summary of the Commission's Order, FCC 20-32, adopted on March 17, 2020 and released on March 18, 2020, which is the subject of this rulemaking. The full text is available for public inspection and copying during regular business hours in the FCC Reference Center, Federal Communications Commission, 445 12th Street, SW, Room CY-A257, Washington, DC 20554. This document will also be available via ECFS at http://fjallfoss.fcc.gov/ecfs/. Documents will be available electronically in ASCII, Microsoft Word, and/or Adobe Acrobat. Alternative formats are available for people with disabilities (Braille, large print, electronic files, audio format), by sending an email to fcc504@fcc.gov or calling the Commission's Consumer and Governmental Affairs Bureau at (202) 418-0530 (voice), (202) 418-0432 (TTY).

Synopsis

1. In this Order, we make non-substantive, editorial revisions to parts 73 and 76 of the Commission's rules to eliminate rules that have become unnecessary because they no longer have any applicability. Specifically, we delete certain rule provisions regarding the maintenance of local public inspection files by commercial broadcast stations, noncommercial educational (NCE) broadcast stations, and cable system operators. These provisions are, or as of the effective date of this Order will be, without legal effect and therefore obsolete due to the completion of the transition from local hard copy public inspection files to online public inspection files. Eliminating this obsolete language will ease review and clarity of the current public file requirements and streamline our rules.

2. In 2012, the Commission first adopted online public inspection file rules for television broadcasters, requiring them to post public file documents to a central, Commission-hosted online database rather than maintaining files locally at their main studios.¹ In 2016, the Commission expanded the online public inspection file requirements to additional entities, including cable operators and broadcast radio licensees.² To ease compliance burdens for smaller entities with limited financial resources, the Commission delayed for two years, until March 1, 2018, online file obligations for radio stations outside the top 50 markets, radio stations within the top 50 markets with fewer than five fulltime employees, NCE radio stations, and smaller cable operators.³ In addition, television stations, radio stations, and cable system operators were not required to upload existing political file material, but only new political file material on a going-forward basis. This phased approach was intended to further smooth the transition for regulated entities and the Commission and to allow smaller entities additional time to begin posting their political files online. Since the last hard copy political file material would have been placed in the file by March 1, 2018, and since all political file material is subject to a two-year retention period, as of March 1, 2020 the transition to the online public file will be complete and the rule revisions adopted herein will be effective as of that date or as of the date of Federal Register publication, whichever is later.⁴

¹ The public inspection file rules apply to full power and Class A television stations, and not to low power television or television translators.

² The online file requirements also were expanded to satellite TV (also referred to as “Direct Broadcast Satellite” or “DBS”) providers and satellite radio (also referred to as “Satellite Digital Audio Radio Services” or “SDARS”) in the 2016 Order.

³ The Commission exempted cable systems with fewer than 1,000 subscribers from all online public file requirements and applied the March 1, 2018 timeframe to cable systems with between 1,000 and 5,000 subscribers. Accordingly, cable systems with fewer than 1,000 subscribers may continue to retain public file material at their system.

⁴ Upon completion of the transition to the online public file, we expect that all entities subject to the online public inspection file requirements will be fully compliant. Broadcast stations that are not in full compliance will be required to self-disclose any non-compliance in their renewal application during the current renewal cycle, and we anticipate that the Media Bureau will initiate enforcement action when necessary as part of the renewal review.

3. With the transition complete, we adopt this Order to remove the transitional requirements from the public file rules. Specifically, we delete portions of the public file rules that pertain to radio licensees being temporarily exempt from the online public file, since such licensees were no longer exempt as of March 1, 2018. We also delete portions of the rules that pertain to retention of the existing political files in hard copy, which are no longer relevant as of March 1, 2020. In addition, we delete portions of the rules that currently explain what is meant by references to the “local public inspection file,” since such references will not appear in the revised rules.⁵ We add language to the cable public file rules to clarify that only those cable systems that are exempt from the online public file requirement, i.e., those with fewer than 1,000 subscribers, will continue to be permitted to retain public file material at their system.⁶ We also delete other obsolete language in the public file rules.⁷

⁵ We will retain references to the “local public inspection file” in the cable public file rule, because cable television systems with fewer than 1,000 subscribers are exempt from the online public file requirements.

⁶ Specifically, we revise § 76.1700(e) to clarify that its provisions involving the location of public file material that continues to be retained at the system apply to cable television systems that are exempt from the online public file requirement pursuant to § 76.1700(d). Similarly we revise § 76.1700(f) to clarify that those systems required to include in the online public file the address of the system's local public file will be systems that are exempt from the online public file requirement pursuant to § 76.1700(d) but opt to use it partially while retaining certain other documents in the local file.

⁷ Specifically, we delete from these rules obsolete language referencing the Commission's main studio rules, which were eliminated in 2017. We also revise §§ 73.3526(c)(1) and 73.3527(c)(1) to pertain only to applicants described in paragraph (b)(1) of those rules (“[a]n applicant for a new station or change of community”), and not permittees or licensees, since the described applicants are the only entities subject to these rules that will not have fully converted to the online public inspection file.

4. We make certain additional minor revisions to the rules to reflect the completion of the transition to the online public inspection file. Specifically, we change the word “local” in the current title of §§ 73.3526 (Local public inspection file of commercial stations) and 73.3527 (Local public inspection file of noncommercial educational stations) to “online.” ⁸ In addition, we revise the political file rule (§ 73.1943) to delete language pertaining to retention of the political file at the station and to clarify that the records must be placed in the online political file.⁹ Finally, we change the word “locally” in § 73.3615 to “in the online public inspection file.”

⁸ We note that the Commission has previously proposed revisions to §§ 73.3526(e)(13) and 73.3527(e)(10), covering local public notice announcements, and we thus do not implement any further revisions to those rules here. These proposed revisions will be considered in an upcoming order.

⁹ Specifically, we revise this rule by adding the word “online” to “online political file” in paragraph (c) and by removing paragraph (d) in its entirety.

5. The rule revisions adopted in this Order are non-substantive, editorial revisions. Because these revisions merely eliminate provisions that are no longer effective and thus obsolete as of March 1, 2020, and make other related non-substantive edits, we find good cause to conclude that notice and comment procedures are unnecessary and would not serve any useful purpose. As explained above, these revisions will be effective on the latter of March 1, 2020 or the Federal Register publication date, by which time the transition to the online public file will be complete.¹⁰

¹⁰ Because the rules being revised are, as of March 1, 2020, without legal effect and therefore obsolete due to the completion of the transition from local hard copy public inspection files to online public inspection files, there is “good cause” under 5 U.S.C. 553(d) to make the rules effective prior to 30 days after publication in the Federal Register.

6. Because these rule changes do not require notice and comment, the Regulatory Flexibility Act does not apply.

7. This Order does not contain new or modified information collection requirements subject to the Paperwork Reduction Act of 1995 (PRA). In addition, therefore, it does not contain any new or modified information collection burden for small business concerns with fewer than 25 employees, pursuant to the Small Business Paperwork Relief Act of 2002.

8. The Commission has determined, and the Administrator of the Office of Information and Regulatory Affairs, Office of Management and Budget, concurs that this rule is “non-major” under the Congressional Review Act, 5 U.S.C. 804(2). The Commission will send a copy of the Order to Congress and the Government Accountability Office pursuant to 5 U.S.C. 801(a)(1)(A).

9. Accordingly, IT IS ORDERED that, effective on the latter of March 1, 2020 or the Federal Register publication date, parts 73 and 76 of the Commission's rules ARE AMENDED, as set forth in the attached Final Rules, pursuant to the authority contained in sections 4(i) and 303(r) of the Communications Act of 1934, as amended, 47 U.S.C. 154(i), 303(r), and in sections 553(b)(3)(B) and 553(d)(3) of the Administrative Procedure Act, 5 U.S.C 553(b)(3)(B), 553(d)(3).

10. IT IS FURTHER ORDERED that, should no petitions for reconsideration or petitions for judicial review be timely filed, MB Docket No. 14-127 and MM Docket No. 00-168 SHALL BE TERMINATED and their dockets closed.

List of Subjects

47 CFR Part 73

Cable television, Radio, Television.

47 CFR Part 76

Cable television.

Federal Communications Commission.
Cecilia Sigmund,
Federal Register Liaison Officer, Office of the Secretary.

Final Rules

For the reasons discussed in the preamble, the Federal Communications Commission amends 47 CFR parts 73 and 76 as follows:

PART 73—RADIO BROADCAST SERVICES

1. The authority citation for part 73 continues to read as follows:

Authority: 47 U.S.C. 154, 155, 301, 303, 307, 309, 310, 334, 336, 339.

2. Amend § 73.1943 by revising paragraph (c) and removing paragraph (d) as follows:

§ 73.1943 Political file.

* * * * *

(c) All records required by this paragraph shall be placed in the online political file as soon as possible and shall be retained for a period of two years. As soon as possible means immediately absent unusual circumstances.

3. Amend § 73.3526 by

a. Revising the section heading and paragraphs (b)(1) and (2);

b. Removing paragraph (b)(3);

c. Redesignating paragraph (b)(4) as paragraph (b)(3);

d. Revising paragraph (c).

The revisions read as follows:

§ 73.3526 Online public inspection file of commercial stations.

* * * * *

(b) * * *

(1) An applicant for a new station or change of community shall maintain its file at an accessible place in the proposed community of license.

(2)(i) A television or radio station licensee or applicant shall place the contents required by paragraph (e) of this section of its public inspection file in the online public file hosted by the Commission.

(ii) A station must provide a link to the public inspection file hosted on the Commission's website from the home page of its own website, if the station has a website, and provide contact information on its website for a station representative that can assist any person with disabilities with issues related to the content of the public files. A station also is required to include in the online public file the station's address and telephone number, and the email address of the station's designated contact for questions about the public file.

* * * * *

(c) Access to material in the file. For any applicant described in paragraph (b)(1) of this section that does not include all material described in paragraph (e) of this section in the online public file hosted by the Commission, the portion of the file that is not included in the online public file shall be available for public inspection at any time during regular business hours at an accessible place in the community of license. The applicant must provide information regarding the location of the file, or the applicable portion of the file, within one business day of a request for such information. All or part of the file may be maintained in a computer database, as long as a computer terminal is made available, at the location of the file, to members of the public who wish to review the file. Material in the public inspection file shall be made available for printing or machine reproduction upon request made in person. The applicant may specify the location for printing or reproduction, require the requesting party to pay the reasonable cost thereof, and may require guarantee of payment in advance (e.g., by requiring a deposit, obtaining credit card information, or any other reasonable method). Requests for copies shall be fulfilled within a reasonable period of time, which generally should not exceed 7 days.

* * * * *

4. Amend § 73.3527 by

a. Revising the section heading and paragraphs (b)(1) and (b)(2)(i);

b. Removing paragraph (b)(2)(ii);

c. Redesignating paragraph (b)(2)(iii) as paragraph (b)(2)(ii) and revising newly redesignated paragraph (b)(2)(ii); and

d. Revising paragraph (c).

The revisions read as follows.

§ 73.3527 Online public inspection file of noncommercial educational stations.

* * * * *

(b) * * *

(1) An applicant for a new station or change of community shall maintain its file at an accessible place in the proposed community of license.

(2)(i) A noncommercial educational television or radio station licensee or applicant shall place the contents required by paragraph (e) of this section of its public inspection file in the online public file hosted by the Commission.

(ii) A station must provide a link to the online public inspection file hosted by the Commission from the home page of its own website, if the station has a website, and provide contact information for a station representative on its website that can assist any person with disabilities with issues related to the content of the public files. A station also is required to include in the online public file hosted by the Commission the station's address and telephone number, and the email address of the station's designated contact for questions about the public file.

* * * * *

(c) Access to material in the file. For any applicant described in paragraph (b)(1) of this section that does not include all material described in paragraph (e) of this section in the online public file hosted by the Commission, the portion of the file that is not included in the online public file shall be available for public inspection at any time during regular business hours at an accessible place in the community of license. The applicant must provide information regarding the location of the file, or the applicable portion of the file, within one business day of a request for such information. All or part of the file may be maintained in a computer database, as long as a computer terminal is made available, at the location of the file, to members of the public who wish to review the file. Material in the public inspection file shall be made available for printing or machine reproduction upon request made in person. The applicant may specify the location for printing or reproduction, require the requesting party to pay the reasonable cost thereof, and may require guarantee of payment in advance (e.g., by requiring a deposit, obtaining credit card information, or any other reasonable method). Requests for copies shall be fulfilled within a reasonable period of time, which generally should not exceed 7 days.

* * * * *

5. Amend § 73.3615 by revising paragraph (g) to read as follows:

§ 73.3615 Ownership reports.

* * * * *

(g) A copy of all ownership and supplemental ownership reports and related materials filed pursuant to this section shall be maintained and made available for public inspection in the online public inspection file as required by §§ 73.3526 and 73.3527.

PART 76—MULTICHANNEL VIDEO AND CABLE TELEVISION SERVICE

6. The authority citation for part 76 continues to read as follows:

Authority: 47 U.S.C. 151, 152, 153, 154, 301, 302, 302a, 303, 303a, 307, 308, 309, 312, 315, 317, 325, 338, 339, 340, 341, 503, 521, 522, 531, 532, 534, 535, 536, 537, 543, 544, 544a, 545, 548, 549, 552, 554, 556, 558, 560, 561, 571, 572, 573.

7. Amend § 76.1700 by revising paragraph (a) introductory text, paragraphs (e) and (f) to read as follows:

§ 76.1700 Records to be maintained by cable system operators.

(a) Public inspection file. The following records must be placed in the online public file hosted by the Commission, except as indicated in paragraph (d) of this section.

* * * * *

(e) Location of records. For cable television systems exempt from the online public file requirement pursuant to paragraph (d) of this section, public file material that continues to be retained at the system shall be retained in a public inspection file maintained at the office in the community served by the system that the system operator maintains for the ordinary collection of subscriber charges, resolution of subscriber complaints, and other business and, if the system operator does not maintain such an office in the community, at any accessible place in the communities served by the system (such as a public registry for documents or an attorney's office). Public file locations will be open at least during normal business hours and will be conveniently located. The public inspection file shall be available for public inspection at any time during regular business hours for the facility where they are kept. All or part of the public inspection file may be maintained in a computer database, as long as a computer terminal capable of accessing the database is made available, at the location of the file, to members of the public who wish to review the file.

(f) Links and contact and geographic information. A system must provide a link to the public inspection file hosted on the Commission's website from the home page of its own website, if the system has a website, and provide contact information on its website for a system representative who can assist any person with disabilities with issues related to the content of the public files. A system also is required to include in the online public file the address of the system's local public file, if the system is exempt from the online public file requirement pursuant to paragraph (d) of this section but opts to use it in part while retaining certain documents in the local file that are not available in the Commission's online file, and the name, phone number, and email address of the system's designated contact for questions about the public file. In addition, a system must provide on the online public file a list of the five digit ZIP codes served by the system. To the extent this section refers to the local public inspection file, it refers to the public file of a physical system, which is either maintained at the location described in paragraph (e) of this section or on the Commission's website, depending upon where the documents are required to be maintained under the Commission's rules.

* * * * *

[FR Doc. 2020-06927 Filed 4-15-20; 8:45 am]

BILLING CODE 6712-01-P